DEPARTMENT OF ENERGY

Federal Energy Regulatory Commission

[Docket No. QM07-5-001]

Xcel Energy Services Inc., on Behalf of Southwestern Public Service Company, Oklahoma Gas and Electric Company; American Electric Power Service Corp., on Behalf of Public Service Company of Oklahoma and Southwestern Electric Power Company; Notice of Filing

October 26, 2007.

Take notice that on October 24, 2007, Xcel Energy Services Inc., on behalf of Southwestern Public Service Company; Oklahoma Gas and Electric Company, and American Electric Power Service Corporation on behalf of Public Service Company of Oklahoma and Southwestern Electric Power Company (collectively, Applicants) filed a material amendment to their September 25, 2007 Application to Terminate the Requirement to Enter into New Contracts of Obligations with Qualifying Facilities (QFs). The amendment consists of revised Attachments E and I to the application and names additional QFs that may be potentially affected by the application.

Because the filing constitutes a material amendment to the September 25, 2007 application filed by Applicants, the 90-day period within which the Commission must act on this application begins on the date of the amended filing. The Commission will act on the application on or before January 23, 2008, unless the application is again materially amended.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 21, 2007.

Kimberly D. Bose,
Secretary.

[FR Doc. E7-21734 Filed 11-5-07; 8:45 am]

BILLING CODE 6717-01-P